ENVIRONMENTAL PROTECTION AGENCY

40 CFR Part 52

[EPA-R05-OAR-2012-0541; FRL 9733-5]

Approval and Promulgation of Air Quality Implementation Plans; Illinois; Greif Packaging, LLC Adjusted Standard

AGENCY: Environmental Protection Agency (EPA).

ACTION: Proposed rule.

SUMMARY: EPA is proposing to approve into the Illinois State Implementation Plan (SIP) an adjusted standard for the Greif Packaging, LLC facility located at 5 S 220 Frontenac Road in Naperville, Illinois (Greif). On June 20, 2012, the Illinois Environmental Protection Agency submitted to EPA for approval an adjustment to the general rule, Organic Material Emission Standards and Limitations for the Chicago Area; Subpart TT: Other Emission Units, as it applies to emissions of volatile organic matter (VOM) from Greif's fiber drum container manufacturing facility. VOM, as defined by the State of Illinois, is identical to volatile organic compound, as defined by EPA. The adjusted standard replaces portions of the general rule for VOM emissions with site-specific reasonably available control technology requirements for the Greif facility.

DATES: Comments must be received on or before November 21, 2012.

ADDRESSES: Submit your comments, identified by Docket ID No. EPA-R05-OAR-2012-0541, by one of the following methods:

1. www.regulations.gov: Follow the on-line instructions for submitting comments.

2. Email: aburano.douglas@epa.gov.

3. Fax: (312) 408-2279.

4. Mail: Doug Aburano, Chief, Attainment Planning and Maintenance Section, Air Programs Branch (AR-18J), U.S. Environmental Protection Agency, 77 West Jackson Boulevard, Chicago, Illinois 60604.

5. Hand Delivery: Doug Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Kathleen D'Agostino, Environmental Engineer, Attainment Planning and Maintenance Section, Air Programs Branch (AR-18J), Environmental Protection Agency, Region 5, 77 West Jackson Boulevard, Chicago, Illinois 60604, (312) 886-1767, dagostino.kathleen@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: September 13, 2012.
Susan Hedman,
Regional Administrator, Region 5.

[FR Doc. 2012-25820 Filed 10-19-12; 8:45 am]

BILLING CODE 6560-50-P